POSTAL SERVICE

39 CFR Part 111

Premium Forwarding Service

AGENCY: Postal Service.

ACTION: Final rule.

SUMMARY: This final rule sets forth the standards adopted by the Postal Service™ to implement the Premium Forwarding Service (PFS) experiment.

The Postal Service is conducting the PFS experiment to measure interest in a new service that forwards mail to residential customers who are temporarily away from their primary address. With PFS, your local Post Office will ship mail to your temporary address once a week via Priority Mail®.

DATES: Effective Date: This final rule is effective at 12:01 a.m. on August 7, 2005.

FOR FURTHER INFORMATION CONTACT: Rick Klutts, 202-268-7268.

SUPPLEMENTARY INFORMATION: Today, customers can submit a temporary forwarding request for their First-Class Mail and Periodicals mail. Customers also can have their mail held at the Post Office for short periods of time. Premium Forwarding Service (PFS) is a two-year, nationwide experiment that reships all of a customer's mail on a weekly basis.

PFS is a personalized service designed for sending mail from a customer's primary residential address to a temporary address using Priority Mail. With PFS, the Postal Service boxes and ships mail to customers who are away for at least two weeks and up to one year.

Express Mail and Priority Mail packages that are too large to fit inside the weekly PFS package are immediately and separately rerouted at no additional charge. Package Services parcels that are too large to fit inside the PFS package are forwarded with postage due. All mail requiring a delivery scan or a signature also is separately rerouted. Examples include Certified Mail, Registered Mail, and mail with Delivery Confirmation.

PFS generally provides a shipment of a customer's mail every Wednesday from their primary address to their temporary address by Priority Mail. There is an initial enrollment fee of $10, plus a weekly per-shipment charge of $10.

Customers who wish to participate must submit an application to the Post Office responsible for delivery to their primary address and pay the enrollment fee and shipment charges for the full duration they will be away. The minimum enrollment is two weeks, and the maximum is one year.

Customers who wish to cancel PFS early may request a refund for any unused weekly shipment charges from the Post Office serving their primary address. Additionally, customers can contact that Post Office prior to the termination date to extend PFS service (up to one year total) as needed.

The Board of Governors of the United States Postal Service approved the PFS experiment on May 10, 2005. The standards, which will be incorporated into Mailing Standards of the United States Postal Service, Domestic Mail Manual (DMM®) are included in the Opinion and Recommended Decision of the Postal Rate Commission Approving Stipulation and Agreement for Experimental Premium Forwarding Service, Docket No. MC2005-1.

The mailing standards for the two-year Premium Forwarding Service experiment are provided below.

The Postal Service is making the following amendments to Mailing Standards of the United States Postal Service, Domestic Mail Manual (DMM), which is incorporated by reference in the Code of Federal Regulations (see 39 CFR 111).

List of Subjects in 39 CFR Part 111

Administrative practice and procedure, United States Postal Service.

PART 111—[AMENDED]

1. The authority citation for 39 CFR Part 111 continues to read as follows:

Authority: 5 U.S.C. 552(a); 39 U.S.C. 101, 401, 403, 404, 414, 3001-3011, 3201-3219, 3403-3406, 3621, 3626, 5001.

2. Revise the following sections of the DMM, as set forth below:

700 Special Standards

* * * * *

709 Experimental Classifications and Rates

* * * * *

[Add new 709.8.0 to read as follows:]

8.0 Premium Forwarding Service

8.1 Description and Purpose

Premium Forwarding Service (PFS) is a 2-year experiment that, upon payment of postage and fees, provides residential delivery customers and certain post office box customers an option to have all mail addressed to their primary address reshipped or rerouted to a temporary address mainly by means of a weekly Priority Mail shipment. PFS is available for a period of not less than 2 weeks and not more than 1 year. This optional service is in addition to the current piece-by-piece forwarding service currently offered by USPS, whereby only certain mailpieces are forwarded.

8.2 Eligibility

8.2.1 Use

Participation in PFS is subject to the following standards:

a. PFS is available to residential delivery customers and all size-one or size-two post office box customers.

b. A customer must submit a completed PFS application, Form 8176, to the post office (or a station or branch of that post office) responsible for delivery to the customer's primary address. The enrollment fee and reshipment charges for the full duration of requested service must accompany the application form.

c. Customers must designate on the application form whether the order is for an “individual” or an “entire household.”

d. PFS is available for a period of not less than 2 weeks and not more than 1 year.

e. PFS is available only from and to domestic addresses.

f. PFS is available to, but not from, central point delivery addresses, APO and FPO addresses, and U.S. State Department addresses.

8.2.2 Prohibited Use

Customers cannot have a temporary or permanent forwarding order active simultaneously with enrollment in PFS. PFS cannot be combined with any ancillary or extra services beyond those purchased by the original sender. In addition, PFS is not available for:

a. Customers whose primary address is a size-three, size-four, or size-five post office box. Residential customers who use these post office box sizes due to the unavailability of smaller boxes may request a waiver of this restriction.

b. Customers whose primary address is a business delivery address.

c. Customers whose primary address is a central point to which the USPS provides delivery in bulk to a third party, such as a commercial mail receiving agency (CMRA), RV park, trailer park, or hotel.

8.3 Rates and Fees

8.3.1 Enrollment

Customers must pay a $10.00 nonrefundable enrollment fee.

8.3.2 Charge Per Reshipment

The reshipment charge for each Priority Mail shipment is $10.00 for each week of service requested.

8.4 Extension or Early Termination

8.4.1 Early Termination of Service

A customer who terminates PFS early (e.g., a customer prepays for 10 weeks but returns to a primary address after 8 weeks) may request a refund for any unused weekly shipment charges from the post office serving the primary address. The enrollment fee is nonrefundable.

8.4.2 Extension of Service

A PFS customer may contact the post office responsible for delivery to the primary address prior to the termination date and extend PFS service (up to 1 year maximum service from the initial start date) as needed. An extension is processed only after the post office receives payment of all postage and fees for the extension.

8.5 Disposition of PFS Mail

8.5.1 Weekly Priority Mail Reshipments

Regardless of any endorsement on a mailpiece, all mail is reshipped in the weekly Priority Mail shipment, except as specified below.

8.5.2 Mailpieces Requiring a Scan or Signature at Delivery

Mailpieces requiring a scan or signature at delivery (e.g., Express Mail, Certified Mail, numbered insured mail, mailpieces with Delivery Confirmation) are appropriately scanned, then immediately and separately rerouted to the temporary address, subject to the following:

a. Express Mail, Priority Mail, and First-Class Mail are rerouted at no additional charge.

b. Standard Mail and Package Services mailpieces are rerouted postage due at the appropriate Priority Mail rate.

8.5.3 Priority Mail Not Requiring a Scan or Signature at Delivery

Priority Mail that does not require a scan or signature at delivery is immediately and separately rerouted to the temporary address, unless it will fit into the weekly Priority Mail shipment and such inclusion does not delay its delivery to the temporary address.

8.5.4 Large Packages Not Requiring a Scan or Signature at Delivery

Packages that do not fit into the weekly Priority Mail shipment and do not require a scan or signature at delivery are separately rerouted to the temporary address, subject to the following:

a. First-Class Mail and Periodicals parcels (firm bundles) are rerouted at no additional charge.

b. Standard Mail and Package Services parcels are rerouted postage due at the appropriate Priority Mail rate.

c. Oversized Parcel Post parcels are rerouted postage due at the appropriate oversized Parcel Post rate.

8.5.5 Mailpieces Arriving Postage Due at the Primary Address

Any mailpiece arriving postage due at the post office serving a PFS customer's primary address is not reshipped in the weekly Priority Mail shipment and will be rerouted individually. Pieces arriving postage due are rerouted as follows:

a. Postage due First-Class Mail pieces are rerouted as First-Class Mail postage due. Only the original postage due amount is collected. There is no additional charge for rerouting the mailpiece.

b. Postage due Priority Mail pieces are rerouted as Priority Mail postage due. Only the original postage due amount is collected. There is no additional charge for rerouting the mailpiece.

c. Postage due for all Package Services pieces, other than oversized Parcel Post pieces, are rerouted as Priority Mail. The total postage due for Package Services pieces is the sum of the postage due at the time of receipt at the primary post office plus the postage due for rerouting the piece from the primary post office to the temporary post office at the appropriate Priority Mail rate.

d. Postage due oversized Parcel Post pieces are rerouted as Parcel Post. The total postage due is the sum of the postage due at the time of receipt at the primary post office and the postage due for rerouting the piece from the primary post office to the temporary post office at the appropriate oversized Parcel Post rate.

8.6 USPS Responsibility

The delivery post office serving a PFS customer's primary address must:

a. Prepare and send the PFS shipments once each week, on Wednesdays.

b. Ensure that PFS shipments end in accordance with the original or revised end date specified on the application form, and that delivery to the primary address begins (or holding mail commences under 507.3.4.4) as designated by the customer.

c. Ensure that Label 85 (Permit No. G-400) is properly affixed to each reshipped PFS Priority Mail package. Postage meter or PVI postage must not be affixed.

* * * * *

Neva R. Watson,
Attorney, Legislative.

[FR Doc. 05-11472 Filed 6-9-05; 8:45 am]

BILLING CODE 7710-12-P